DEPARTMENT OF COMMERCE

International Trade Administration

[A-412-801]

Ball Bearings and Parts Thereof From the United Kingdom: Final Results of Changed-Circumstances Review

AGENCY: Import Administration, International Trade Administration, Department of Commerce.

SUMMARY: The Department of Commerce (the Department) has determined, pursuant to section 751(b) of the Tariff Act of 1930, as amended (the Act), that SKF (UK) Ltd. is the successor-in-interest to SNFA Bearings Ltd. and, as a result, should be accorded the same treatment as SKF (UK) Ltd.

DATES: Effective Date: November 4, 2009.

FOR FURTHER INFORMATION CONTACT: Kristin Case at (202) 482-3174 or Richard Rimlinger at (202) 482-4477, AD/CVD Operations, Office 5, Import Administration, International Trade Administration, U.S. Department of Commerce, 14th Street and Constitution Avenue, NW., Washington, DC 20230.

SUPPLEMENTARY INFORMATION:

Background

The Department published an antidumping duty order on ball bearings and parts thereof from the United Kingdom on May 15, 1989. See Antidumping Duty Orders and Amendments to the Final Determinations of Sales at Less Than Fair Value: Ball Bearings and Cylindrical Roller Bearings and Parts Thereof From the United Kingdom, 54 FR 20910 (May 15, 1989). On July 12, 2001, the Department revoked the antidumping duty order on ball bearings and parts thereof from the United Kingdom with respect to SNFA Bearings Ltd. (SNFA UK). See Antifriction Bearings (Other Than Tapered Roller Bearings) and Parts Thereof From France, Germany, Italy, Japan, Sweden, and the United Kingdom: Final Results of Antidumping Duty Administrative Reviews and Revocation of Orders in Part, 66 FR 36551 (July 12, 2001).

On January 26, 2007, SNFA UK, a subsidiary of SNFA S.A.S.U. (SNFA), and SKF UK Ltd. (SKF UK) notified the Department of a change in the ownership of SNFA. Specifically, SNFA UK and SKF UK notified the Department that, on July 4, 2006, through its subsidiary SKF Holding France S.A., AB SKF purchased all outstanding shares of SNFA. On March 9, 2007, we initiated a changed-circumstances review of the antidumping duty order on ball bearings and parts thereof from the United Kingdom. See Ball Bearings and Parts Thereof from Italy and the United Kingdom: Initiation of Antidumping Duty Changed-Circumstances Reviews, 72 FR 10643 (March 9, 2007).¹

¹ On October 26, 2007, we rescinded the changed-circumstances review of the antidumping duty order on ball bearings and parts thereof from Italy. See Ball Bearings and Parts Thereof from France and Italy: Rescission of Antidumping Duty Changed-Circumstances Reviews, 72 FR 60798 (October 26, 2007).

On January 30, 2008, SKF UK and SNFA UK notified the Department that the companies had moved SNFA UK's production facilities to the grounds of SKF UK's Stonehouse operations ² and that SNFA UK's assets had been legally transferred to SKF UK. SKF UK and SNFA UK also explained that, with the asset transfer, SNFA UK began operating as a part of SKF UK. On May 27, 2008, the Department preliminarily found that SKF UK is the successor-in-interest to SNFA UK. See Ball Bearings and Parts Thereof from the United Kingdom: Preliminary Results of Changed-Circumstances Review, 73 FR 30378 (May 27, 2008). We invited interested parties to comment on the preliminary results. We received case and rebuttal briefs. We did not hold a hearing.

² SKF UK produces ball bearings only at its Stonehouse operations.

Scope of the Order

The products covered by the order are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

As a result of recent changes to the HTSUS, effective February 2, 2007, the subject merchandise is also classifiable under the following additional HTSUS item numbers: 8708.30.5090, 8708.40.7500, 8708.50.7900, 8708.50.8900, 8708.50.9150, 8708.50.9900, 8708.80.6590, 8708.94.75, 8708.95.2000, 8708.99.5500, 8708.99.68, and 8708.99.8180.

Although the HTSUS item numbers above are provided for convenience and customs purposes, the written description of the scope of the order remains dispositive.

Analysis of Comments Received

The issues raised in the case briefs by parties in this review are addressed in the Issues and Decision Memorandum from Laurie Parkhill, Office Director, AD/CVD Enforcement, Office 5, to John M. Andersen, Acting Deputy Assistant Secretary for Antidumping and Countervailing Duty Operations, dated concurrently with this notice (Decision Memo), which is hereby adopted by this notice. A list of the issues which parties have raised and to which we have responded is in the Decision Memo and attached to this notice as an Appendix. The Decision Memo, which is a public document, is on file in the Central Records Unit, main Department of Commerce building, Room 1117, and is accessible on the Web at http://ia.ita.doc.gov/frn. The paper copy and electronic version of the Decision Memo are identical in content.

Final Results of Changed-Circumstances Review

For the reasons stated in the preliminary results and the Decision Memo, we continue to find that SKF (UK) Ltd. is the successor-in-interest to SNFA UK and, as a result, should be accorded the same treatment as SKF UK. Accordingly, the Department will instruct U.S. Customs and Border Protection to suspend liquidation of all shipments of the subject merchandise produced or exported by either SNFA UK or SKF UK's SNFA operations and entered, or withdrawn from warehouse, for consumption, on or after the publication date of this notice in the Federal Register at 18.64 percent which is the current cash-deposit rate for SKF UK. This deposit requirement shall remain in effect until further notice.

Notification

This notice also serves as a reminder to parties subject to the administrative protective order (APO) of their responsibility concerning the disposition of proprietary information disclosed under APO in accordance with 19 CFR 351.306. Timely written notification of the destruction of APO materials or conversion to judicial protective order is hereby requested. Failure to comply with the regulations and terms of an APO is a sanctionable violation.

This notice is published in accordance with sections 751(b)(1) and 777(i) of the Act and 19 CFR 351.216 and 351.221.

Dated: October 28, 2009.
John M. Andersen,
Acting Deputy Assistant Secretary for Antidumping and Countervailing Duty Operations.

Appendix

1. Successorship.

2. Effective Date of Determination.

[FR Doc. E9-26600 Filed 11-3-09; 8:45 am]

BILLING CODE 3510-DS-P